DEPARTMENT OF VETERANS AFFAIRS

[OMB Control No. 2900-0689]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 6, 2007.

ADDRESSES: Submit written comments on the collection of information through http://www.Regulations.gov; or to VA's OMB Desk Officer, OMB Human Resources and Housing Branch, New Executive Office Building, Room 10235, Washington, DC 20503, (202) 395-7316. Please refer to “OMB Control No. 2900-0689” in any correspondence.

For Further Information or a Copy of the Submission Contact: Denise McLamb, Records Management Service (005G2), Department of Veterans Affairs, 810 Vermont Avenue, NW., Washington, DC 20420, (202) 565-8374, FAX (202) 565-7045 or e-mail: denise.mclamb@mail.va.gov. Please refer to “OMB Control No. 2900-0689.”

SUPPLEMENTARY INFORMATION: Title: Survey of Satisfaction of Operation Iraqi Freedom/Operation Enduring Freedom (OIF/OEF) Amputees, VA Form 10-21082(NR).

OMB Control Number: 2900-0689.

Type of Review: Extension of a currently approved collection.

Abstract: VA will use the data collected to determine whether the health care needs of amputees and severely injured veterans returning from Iraqi Freedom and Operation Enduring Freedom are being met and to identify areas where improvement is needed.

An agency may not conduct or sponsor, and a person is not required to respond to a collection of information unless it displays a currently valid OMB control number. The Federal Register Notice with a 60-day comment period soliciting comments on this collection of information was published on December 6, 2006 at page 70847.

Affected Public: Individuals or households.

Estimated Annual Burden: 60 hours.

Estimated Average Burden per Respondent: 18 minutes.

Frequency of Response: One time.

Estimated Number of Respondents: 200.

Dated: February 22, 2007.
By direction of the Secretary.
Denise McLamb,
Program Analyst, Records Management Service.

[FR Doc. E7-4010 Filed 3-6-07; 8:45 am]

BILLING CODE 8320-01-P